ENVIRONMENTAL PROTECTION AGENCY

[FRL-7076-3]

Agency Information Collection Activities: Proposed Collection; Comment Request; Emission Compliance and Fuel Economy Information; Motorcycles and Light Duty

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Emission Compliance and Fuel Economy Information; Motorcycles and Light Duty. This ICR was formerly titled “Emission Certification and Fuel Economy Compliance; Motorcycles, Light Duty Vehicles and Light Duty Trucks”; EPA ICR 0783.37, OMB 2060-0104, it expires December 31, 2001. EPA is also planning on including provisions currently contained in other ICR's dealing with assembly line testing, recalls and NLEV standards, OMB numbers 2060-0064, 2060-0094, 2060-0124, 2060-0345 and 2060-0425. Before submitting the ICR to OMB for review and approval, EPA is soliciting comments on specific aspects of the proposed information collection as described below.

DATES: Comments must be submitted on or before December 10, 2001.

ADDRESSES: Interested persons may obtain a copy of the various ICRs without charge from: United States Environmental Protection Agency, Certification and Compliance Division, ATTN: Richard W. Nash, 2000 Traverwood Dr., Ann Arbor, MI 48105.

FOR FURTHER INFORMATION CONTACT: Richard W Nash, 2000 Traverwood Dr., Ann Arbor, MI 48105, (734) 214-4412, E-mail: nash.dick@epa.gov.

SUPPLEMENTARY INFORMATION: Affected entities: Entities potentially affected by this action are passenger car, light truck and motorcycle manufacturers and importers.

Title: Emission Compliance and Fuel Economy Information; Motorcycles and Light Duty. This collection was formerly titled “Emission Certification and Fuel Economy Compliance; Motorcycles, Light Duty Vehicles and Light Duty Trucks”; EPA ICR 0783.37, OMB 2060-0104, expiring December 31, 2001.

Abstract: Under the Clean Air Act (42 U.S.C. 7525), manufacturers and importers of passenger cars, light trucks and motorcycles must have a certificate of conformity issued by EPA covering any vehicle they intend to offer for sale. In addition, car and truck manufacturers (and importers) must also submit information and reports required by the Energy Conservation and Policy Act (15 U.S.C. 2000 et seq.). EPA reviews vehicle information and test data to verify that the vehicle conforms to appropriate requirements and to verify that the proper testing has been performed. Subsequent audit and enforcement actions may be taken based, in part, on the initial information submitted. An agency may not conduct or sponsor, and a person is not required to respond to, a collection of information unless it displays a currently valid OMB control number. The OMB control numbers for EPA's regulations are listed in 40 CFR part 9 and 48 CFR chapter 15.

ICR Consolidation: In addition to renewing the emission certification portion of the ICR, EPA is proposing to consolidate several related and similar ICRs dealing with specific aspects of the emission compliance process. Although EPA's various compliance activities have always relied heavily on information collected during emission certification; a limited amount of additional information is sometimes also required. Consequently, it is logical to consolidate these other collections. Further, other information collections are inherently related to the emission certification process. The ICRs proposed to be consolidated are discussed in more detail in the paragraph below.

Of necessity, test vehicles used to substantiate compliance with emission standards cannot be covered by a certificate until one has been issued. EPA has established procedures for “exclusions and exemptions” in 40 CFR part 85, subpart R; the information collection is approved under OMB 2060-0124, Motor Vehicle Exclusion Determination, EPA ICR 0012.11. EPA proposes to consolidate this collection with the certification ICR which it supports. EPA adopted voluntary emission standards providing a compatible system to those standards established by California and certain northeastern states; National Low Emitting Vehicle Program, NLEV. The NLEV information requirements were approved by OMB 2060-0345, EPA ICR 1761.02. However, these voluntary standards have, in effect, supplanted the regular standards and associated information collection previously approved by OMB. Incorporating these NLEV reporting burdens with the other certification provisions they have supplanted is both logical and will eliminate the very slight overstatement of burden resulting from having two duplicate approved processes when only one is used. EPA's emission certification program is the starting point for all subsequent compliance activities. Information collected during certification is used in planning those subsequent activities and answering questions that may arise. The formal title has been Motor Vehicle Emission Certification and Fuel Economy Compliance; it was approved by OMB under 2060-0104, EPA ICR 783.39. Information describing the vehicles which will be produced and test results substantiating that they will comply with applicable standards is reviewed by EPA before issuing a “Certificate of Conformity.” Assembly line testing, known as Selective Enforcement Audit, is chronologically the next compliance mechanism; it assures that the vehicles actually produced do in fact comply with applicable standards and regulations. Selective Enforcement Audit was formally approved by OMB under 2060-0064, that authority has since expired. Although EPA has not conducted an assembly line test recently, the Agency wishes to retain authority to do so; albeit at a very low rate, a fraction of one audit per year. The Agency believes that assembly line testing may be useful in some limited circumstances in the future and, therefore, proposes to include it in the consolidated ICR. EPA's other major compliance technique is vehicle recall which is comprised of two components. Vehicle manufacturers are required to submit certain reports; Emission Defect Information and Voluntary Emission Recall Reports for On-Highway, Light-duty Vehicles, OMB approval 2060-0425, EPA ICR 1916.01. In addition, when EPA conducts testing on in-use vehicles, manufacturers are asked to verify the construction and testing conditions; Verification of Test Parameters and Parts Lists for Light-Duty Vehicles and Light-Duty Trucks. This information collection is authorized under OMB number 2060-0094, EPA ICR 0167.06. Both recall activities impose relatively minor burdens and are an extension of the information originally collected to support certification. As such, EPA proposes to include them in the consolidated ICR. Upon OMB approval of the consolidated ICR, the previously approved separate ICRs will no longer be needed.

Concurrent Rulemaking: EPA is concurrently proposing to amend certain aspects of the ICR regarding On Board Diagnostic (OBD) service information. The ICR was submitted to OMB on 01 April 2001 under EPA number 0783.41; the Notice of Proposed Rulemaking was published on June 8, 2001, 66 FR 30830. Comments on this proposal should be submitted as directed in those documents. The ICR renewal will be amended to reflect any changes in information burden that are ultimately approved by OMB.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

(v) Evaluate the effect of combining the ICRs discussed above.

Burden Statement: The total labor burden imposed by the Motor Vehicle Emission Certification and Fuel Economy Compliance program is approximately 538,192.5 hours/year. Approximately 70 respondents are regulated by this program, yielding an average burden of 7,688.5 hours/year/respondent. The annual operating and capitalized costs are $3 million and $9.7 million respectively. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: October 1, 2001.
Jeffrey R. Holmstead,
Assistant Administrator, Office of Air and Radiation.

[FR Doc. 01-25262 Filed 10-5-01; 8:45 am]

BILLING CODE 6560-50-P